DEPARTMENT OF ENERGY

Federal Energy Regulatory Commission

Combined Notice of Filings

Take notice that the Commission has received the following Natural Gas Pipeline Rate and Refund Report filings:

Filings in Existing Proceedings

Docket Numbers: RP22-932-000.

Applicants: Midwestern Gas Transmission Company.

Description: § 4(d) Rate Filing: Compliance Filing to Implement Revised Tariff Records to be effective 7/2/2022.

Filed Date: 5/24/22.

Accession Number: 20220524-5040.

Comment Date: 5 p.m. ET 6/6/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2022.
Debbie-Anne A. Reese,
Deputy Secretary.

[FR Doc. 2022-11623 Filed 5-27-22; 8:45 am]

BILLING CODE 6717-01-P